SMALL BUSINESS ADMINISTRATION

Region I—SBA Providence District Office, Rhode Island SBA Advisory Council; Notice of Public Meeting

The Rhode Island SBA Advisory Council located in Providence, Rhode Island, will hold a public meeting at 8:00 a.m. on Friday, March 24, 2000, at the Marriott Hotel located on One Orms Street in Providence, Rhode Island 02904, to discuss such matters as may be presented by members, staff of the U.S. Small Business Administration, or others present.

For further information write or call Mark S. Hayward, Acting District Director, 380 Westminster Street, Room 511, Providence, Rhode Island 02903 or telephone at (401) 528-4561.

Bettie Baca,
Counselor to the Administrator/Public Liaison.

[FR Doc. 00-5971 Filed 3-10-00; 8:45 am]

BILLING CODE 8025-01-P